DEPARTMENT OF COMMERCE

National Oceanic and Atmospheric Administration

[RTID 0648-XC171]

Endangered and Threatened Species; Take of Anadromous Fish

AGENCY: National Marine Fisheries Service (NMFS), National Oceanic and Atmospheric Administration (NOAA), Commerce.

ACTION: Notice; Issuance of 51 scientific research permits.

SUMMARY: Notice is hereby given that NMFS has issued 51 scientific research permits under the Endangered Species Act (ESA) to the individuals and organizations listed in Table 1. The research is intended to increase knowledge of species listed under the Endangered Species Act (ESA) and to help guide management and conservation efforts.

ADDRESSES: The permits and related documents are available for review upon written request via email to nmfs.wcr-apps@noaa.gov (please include the permit number in the subject line of the email).

FOR FURTHER INFORMATION CONTACT: Rob Clapp, Portland, OR (ph.: 503-231-2314), Fax: 503-230-5441, email: Robert.Clapp@noaa.gov).

SUPPLEMENTARY INFORMATION: Notice was published in the Federal Register on the dates listed below that requests for permits and permit modifications had been submitted by the below-named applicants. To locate the Federal Register notice that announced our receipt of the applications and a complete description of the research, go to www.federalregister.gov and search on the permit number and Federal Register notice information provided in the table below.

Table 1—Issued Permits and Permit Modifications
Permit No. | RTID | Applicant | Previous Federal Register notice | Issuance date
1127-6M | 0648-XB812 | Shoshone-Bannock Tribes Fisheries Department; P.O. Box 306, Fort Hall, ID 83203 (Responsible Party: Kurt Tardy) | 87 FR 8788; February 16, 2022 | April 18, 2022.
1135-11R | 0648-XB812 | U.S. Geological Survey, Western Fisheries Research Center; Columbia River Research Laboratory, 5501-A Cook-Underwood Rd.; Cook, WA 98605 (Responsible party: Amy C. Hansen) | 87 FR 8788; February 16, 2022 | April 15, 2022.
1175-10R | 0648-XB812 | U.S. Forest Service, Gifford Pinchot National Forest; 10600 NE 51st Circle Drive, Vancouver, WA 98682 (Responsible Party: Dave F. Olson) | 87 FR 8788; February 16, 2022 | April 18, 2022.
1339-6R | 0648-XB812 | Columbia River Inter-Tribal Fish Commission, PR1; 729 NE Oregon Street, Suite 200, Portland, OR 97232-2107 (Responsible Party: Robert Lothrop) | 87 FR 8788; February 16, 2022 | May 17, 2022.
1341-6R | 0648-XB812 | Shoshone-Bannock Tribes Fisheries Department; Post Office Box 306, Fort Hall, ID 83203 (Responsible Party: Kurt Tardy) | 87 FR 8788; February 16, 2022 | April 18, 2022.
1345-10R | 0648-XB812 | Washington Department of Fish and Wildlife; 600 Capitol Way N, Olympia, WA 98501 (Responsible Party: Steve Caromile) | 87 FR 8788; February 16, 2022 | April 15, 2022.
1379-8R | 0648-XB812 | Columbia River Inter-Tribal Fish Commission, PR1; 729 NE Oregon Street, Suite 200, Portland, OR 97232-2107 (Responsible Party: Robert Lothrop) | 87 FR 8788; February 16, 2022 | June 14, 2022.
1386-10R | 0648-XB812 | Washington Department of Ecology; 300 Desmond Dr., Lacey, WA 98504 (Responsible Party: Annette Hoffmann) | 87 FR 8788; February 16, 2022 | April 29, 2022.
1410-13M | 0648-XB812 | NMFS Northwest Fisheries Science Center; 2725 Montlake Blvd. East, Seattle, WA 98112-2097 (Responsible Party: Brian J. Burke) | 87 FR 8788; February 16, 2022 | April 19, 2022.
1465-5R | 0648-XB812 | Idaho Department of Environmental Quality, Surface and Wastewater; 1410 N Hilton, Boise, ID 83706 (Responsible Party: Jason Pappani) | 87 FR 8788; February 16, 2022 | April 15, 2022.
1564-6R | 0648-XB812 | University of Washington, School of Aquatic and Fishery Sciences; University of Washington/SAFS, Box 355020, Seattle, WA 98195 (Responsible Party: Jason Toft) | 87 FR 8788; February 16, 2022 | April 21, 2022.
1586-5R | 0648-XB812 | NMFS Northwest Fisheries Science Center; 2725 Montlake Blvd. East, Seattle, WA 98112-2097 (Responsible Party: Anna Kagley) | 87 FR 8788; February 16, 2022 | April 22, 2022.
1587-7R | 0648-XB812 | U.S. Geological Survey, Western Fisheries Research Center; 6505 NE 65th Street, Seattle, WA 98115 (Responsible Party: Stephen Rubin) | 87 FR 8788; February 16, 2022 | May 5, 2022.
1598-5R | 0648-XB812 | Washington Department of Transportation; 310 Maple Park Avenue SE, Olympia, WA 98504-7331 (Responsible Party: Jeffrey Scott Dreier). | 87 FR 8788; February 16, 2022 | April 25, 2022.
10093-3R | 0648-XB812 | California Department of Fish and Wildlife, Region 1/Northern Region; 601 Locust Street, Redding, CA 96001 (Responsible Party: Tina Bartlett) | 87 FR 8788; February 16, 2022 | April 14, 2022.
13381-4R | 0648-XB812 | NMFS Northwest Fisheries Science Center, FE; 3305 E Commerce Street, Pasco, WA 99301 (Responsible Party: Gordon Axel) | 87 FR 8788; February 16, 2022 | April 15, 2022.
13382-4R | 0648-XB812 | NMFS Northwest Fisheries Science Center; 2725 Montlake Blvd. East, Seattle, WA 98112-2097 (Responsible Party: Ewann Berntson) | 87 FR 8788; February 16, 2022 | April 15, 2022.
14419-4R | 0648-XB812 | Sonoma County Water Agency; 404 Aviation Blvd., Santa Rosa, CA 95403 (Responsible Party: Grant Davis) | 87 FR 8788; February 16, 2022 | April 14, 2022.
15542-6R | 0648-XB812 | TRPA Fish Biologists; 890 L Street, Arcata, CA 95521 (Responsible Party: Kathleen Salamunovich) | 87 FR 8788; February 16, 2022 | April 14, 2022.
15548-2R | 0648-XB812 | TRPA Fish Biologists; 890 L Street, Arcata, CA 95521 (Responsible Party: Kathleen Salamunovich) | 87 FR 8788; February 16, 2022 | February 23, 2022.
15848-3R | 0648-XB812 | Washington Department of Fish and Wildlife; 600 Capitol Way N, Olympia, WA 98501 (Responsible Party: Kathryn Meyer). | 87 FR 8788; February 16, 2022 | April 21, 2022.
15890-3R | 0648-XB812 | Washington Department of Fish and Wildlife; 600 Capitol Way N, Olympia, WA 98501 (Responsible Party: Todd Sandell) | 87 FR 8788; February 16, 2022 | May 5, 2022.
16021-3R | 0648-XB812 | Washington Department of Fish and Wildlife; 600 Capitol Way N, Olympia, WA 98501 (Responsible Party: Kathryn Meyer) | 87 FR 8788; February 16, 2022 | April 22, 2022.
16069-4R | 0648-XB812 | City of Portland; 1120 SW 5th Ave., 6th Floor, Portland, OR 97204 (Responsible Party: Chad T. Smith) | 87 FR 8788; February 16, 2022 | April 27, 2022.
16091-3R | 0648-XB812 | Washington Department of Fish and Wildlife; 600 Capitol Way N, Olympia, WA 98501 (Responsible Party: James West) | 87 FR 8788; February 16, 2022 | May 5, 2022.
16318-4R | 0648-XB812 | Hagar Environmental Science; 6523 Claremont Avenue, Richmond, CA 94805 (Responsible Party: Jeff Hagar) | 87 FR 8788; February 16, 2022 | April 14, 2022.
16521-3R | 0648-XB812 | Washington Department of Fish and Wildlife; 2620 N Commercial Ave., Pasco, WA 99301 (Responsible Party: Paul Hoffarth) | 87 FR 8788; February 16, 2022 | April 15, 2022.
16702-4R | 0648-XB812 | NMFS Northwest Fisheries Science Center; 2725 Montlake Blvd. East, Seattle, WA 98112-2097 (Responsible Party: Joshua W. Chamberlin) | 87 FR 8788; February 16, 2022 | June 2, 2022.
17292-3R | 0648-XB812 | NMFS Southwest Fisheries Science Center, Fisheries Ecology Division; 110 McAllister Way, Santa Cruz, CA 95060-5730 (Responsible Party: Steve Lindley) | 87 FR 8788; February 16, 2022 | April 14, 2022.
17299-4R | 0648-XB812 | NMFS Southwest Fisheries Science Center, Fisheries Ecology Division; 110 McAllister Way, Santa Cruz, CA 95060-5730 (Responsible Party: Steve Lindley) | 87 FR 8788; February 16, 2022 | April 14, 2022.
17306-3R | 0648-XB812 | Oregon Department of Fish and Wildlife; 4034 Fairview Industrial Drive SE, Salem, OR 97302 (Responsible Party: Gerald George) | 87 FR 8788; February 16, 2022 | April 15, 2022.
17916-2R | 0648-XB812 | Bureau of Land Management, Arcata; 1695 Heindon Road, Arcata, CA 95501 (Responsible Party: Zane Ruddy) | 87 FR 8788; February 16, 2022 | April 14, 2022.
18012-3R | 0648-XB812 | California Department Fish and Wildlife, Bay Delta Region; 2825 Cordelia Road, Suite 100, Fairfield, CA 94534 (Responsible Party: Erin Chappell) | 87 FR 8788; February 16, 2022 | April 14, 2022.
19820-3R | 0648-XB812 | UC Davis Biogeochemistry & Fish Ecology Lab; Wildlife, Fish and Conservation Biology Department, Davis, CA 95616 (Responsible Party: Levi S. Lewis) | 87 FR 8788; February 16, 2022 | April 14, 2022.
20104-3R | 0648-XB812 | Pacific Shellfish Institute; 509 12th Ave. SE, #14, Olympia, WA 98501 (Responsible Party: Andrew D. Suhrbier) | 87 FR 8788; February 16, 2022 | April 19, 2022.
20492-3R | 0648-XB812 | Oregon Dept. of Fish and Wildlife, Fish Division; 4034 Fairview Industrial Drive SE, Salem, OR 97302 (Responsible Party: Michele Hughes Weaver) | 87 FR 8788; February 16, 2022 | April 15, 2022.
21185-2R | 0648-XB812 | Wild Fish Conservancy; PO Box 402, Duvall, WA 98019 (Responsible Party: Kurt Beardslee) | 87 FR 8788; February 16, 2022 | April 21, 2022.
21220-2R | 0648-XB812 | Battelle Memorial (NEON Program); 1685 38th St., Suite 100, Boulder, CO 80301 (Responsible Party: Michael Kuhlman) | 87 FR 8788; February 16, 2022 | June 1, 2022.
21330-4R | 0648-XB812 | U.S. Fish and Wildlife Service, Western Wash. Fish and Wildlife Conservation Office; 510 Desmond Drive SE, Suite 102, Lacey, WA 98503 (Responsible Party: Roger Peters) | 87 FR 8788; February 16, 2022 | January 28, 2022.
22369-2M | 0648-XB812 | NMFS Northwest Fisheries Science Center; 520 Heceta Place, Hammond, OR 97121 (Responsible Party: Joe M. Smith) | 87 FR 8788; February 16, 2022 | April 20, 2022.
23798 | 0648-XB812 | River Partners; 580 Vallombrosa Ave., Chico, CA 95926 (Responsible Party: Michael Rogner). | 87 FR 8788; February 16, 2022 | April 14, 2022
25839 | 0648-XB812 | ICF, Fish and Aquatic Science Team; 980 9th Street, Suite 1200, Sacramento, CA 95814 (Responsible Party: Eric Chapman) | 87 FR 8788; February 16, 2022 | April 14, 2022.
25856 | 0648-XB812 | Cramer Fish Sciences; 13300 New Airport Road, Suite 103, Auburn, CA 95602 (Responsible Party: Steve Zeug) | 87 FR 8788; February 16, 2022 | April 14, 2022.
25965 | 0648-XB812 | Oregon Department of Fish and Wildlife; 726 SW Lower Bend Rd., Madras, OR 97741 (Responsible Party: Stacy Strickland) | 87 FR 8788; February 16, 2022 | April 18, 2022.
26049 | 0648-XB812 | Center for Watershed Sciences, University of California, Davis; One Shields Avenue, Davis, CA 95616 (Responsible Party: Robert Lusardi) | 87 FR 8788; February 16, 2022 | April 14, 2022.
26287 | 0648-XB812 | Washington Department of Fish and Wildlife, Fish Program/Fish Management; 1111 Washington St. SE, Olympia, WA 98501 (Responsible Party: Jesse Schultz) | 87 FR 8788; February 16, 2022 | April 22, 2022.
26295 | 0648-XB812 | Mount Hood Environmental; PO Box 744, Boring, OR 97009 (Responsible Party: Ian Courter) | 87 FR 8788; February 16, 2022 | May 19, 2022.
26334 | 0648-XB812 | Center for Watershed Sciences, University of California, Davis; One Shields Avenue, Davis, CA 95616 (Responsible Party: Robert Lusardi) | 87 FR 8788; February 16, 2022 | April 14, 2022.
26352 | 0648-XB812 | Northwest Straits Commission; 10441 Bayview-Edison Rd., Mount Vernon, WA 98273 (Responsible Party: Robert Lusardi) | 87 FR 8788; February 16, 2022 | April 21, 2022.
26359 | 0648-XB812 | Washington Sea Grant; 345 Sixth St., Suite 550, Bremerton, WA 98337 (Responsible Party: Jeffrey W. Adams) | 87 FR 8788; February 16, 2022 | May 6, 2022.
26398 | 0648-XB812 | South Puget Sound Salmon Enhancement Group; 6700 Martin Way East, Suite 112, Olympia, WA 98516 (Responsible Party: Megan Brady) | 87 FR 8788; February 16, 2022 | May 13, 2022.

In compliance with the National Environmental Policy Act of 1969 (42 U.S.C. 4321 et seq.), a final determination has been made that the activities proposed are categorically excluded from the requirement to prepare an environmental assessment or environmental impact statement.

Authority

Scientific research permits are issued in accordance with section 10(a)(1)(A) of the ESA (16 U.S.C. 1531 et. seq) and regulations governing listed fish and wildlife permits (50 CFR 222-226). NMFS issues permits based on finding that such permits: (1) are applied for in good faith; (2) if granted and exercised, would not operate to the disadvantage of the listed species that are the subject of the permit; and (3) are consistent with the purposes and policy of section 2 of the ESA. The authority to take listed species is subject to conditions set forth in the permits.

Dated: July 12, 2022.
Angela Somma,
Chief, Endangered Species Division, Office of Protected Resources, National Marine Fisheries Service.

[FR Doc. 2022-15187 Filed 7-14-22; 8:45 am]

BILLING CODE 3510-22-P